DEPARTMENT OF ENERGY

Federal Energy Regulatory Commission

[Docket Nos. EG08-92-000; EG08-93-000; EG08-94-000; EG08-95-000; EG08-96-000; EG08-97-000; EG08-98-000]

Ashtabula Wind, LLC; Greenfield Energy Centre, LP; Fowler Ridge Wind Farm LLC; Flat Ridge Wind Energy, LLC; Fowler Ridge III Wind Farm LLC; Walnut Creek Energy, LLC; Elbow Creek Wind Project LLC; Notice of Effectiveness of Exempt Wholesale; Generator Status

December 10, 2008.

Take notice that during the month of November 2008, the status of the above-captioned entities as Exempt Wholesale Generators Companies became effective by operation of the Commission's regulations 18 CFR 366.7(a).

Kimberly D. Bose,
Secretary.

[FR Doc. E8-29873 Filed 12-16-08; 8:45 am]

BILLING CODE 6717-01-P